ENVIRONMENTAL PROTECTION AGENCY

[FRL-6953-6]

Agency Information Collection Activities: Proposed Collection; Comment Request; Certification in Lieu of Chloroform Minimum Monitoring Requirements for Direct and Indirect Discharging Mills in the Bleached Papergrade Kraft and Soda Subcategory of the Pulp, Paper, and Paperboard Point Source Category

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Certification in Lieu of Chloroform Minimum Monitoring Requirements for Direct and Indirect Discharging Mills in the Bleached Papergrade Kraft and Soda Subcategory of the Pulp, Paper, and Paperboard Point Source Category, EPA ICR No. 2015.01. Before submitting the ICR to OMB for review and approval, EPA is soliciting comment on specific aspects of the proposed information collection request as described below.

DATES: Comments must be submitted on or before May 18, 2001.

ADDRESSES: Send comments on this notice in triplicate to Mr. Mark Perez, Office of Water, Engineering and Analysis Division (4303), U.S. Environmental Protection Agency, Ariel Rios Building, 1200 Pennsylvania Avenue N.W., Washington DC 20460. In addition to submitting hard copies of the comments, the public may also send comments via e-mail to: perez.mark@epa.gov. Copies of the draft information collection request are available at http://www.epa.gov/OST/pulppaper or by contacting Mr. Perez.

FOR FURTHER INFORMATION CONTACT: Mr. Mark Perez by telephone at (202) 260-2275, by facsimile at (202) 260-7185, or by e-mail at perez.mark@epa.gov.

SUPPLEMENTARY INFORMATION: Affected entities: Entities potentially affected by this action are those operations that chemically pulp wood fiber using kraft or soda methods to produce bleached papergrade pulp, paperboard, coarse paper, tissue paper, fine paper, and/or paperboard.

Title: Certification in Lieu of Chloroform Minimum Monitoring Requirements for Direct and Indirect Discharging Mills in the Bleached Papergrade Kraft and Soda Subcategory of the Pulp, Paper, and Paperboard Point Source Category (EPA ICR No. 2015.01).

Abstract: The Environmental Protection Agency (EPA) imposed minimum monitoring requirements on bleached papergrade kraft and soda (subpart B) mills under 40 CFR part 430 as part of the final Cluster Rules. See 63 FR 18504. These provisions, promulgated under the authorities of sections 301, 304, 307, 308, 402, and 501 of the Clean Water Act, require direct and indirect discharging bleached papergrade kraft and soda mills (subpart B) to monitor their effluent for certain pollutants, including chloroform, at specified frequencies.

EPA is considering an amendment to the Cluster Rules to allow direct and indirect discharging subpart B mills to demonstrate compliance with applicable chloroform limitations and standards under 40 CFR part 430 in lieu of monitoring at a fiber line required by 40 CFR 430.02 by certifying (1) that the fiber line is not using elemental chlorine or hypochlorite as bleaching agents and (2) that it also maintains certain process and operating conditions identified during the initial compliance demonstration period. The initial compliance demonstration consists of a period, not less than two years, where the facility must monitor for chloroform at the minimum frequency required by 40 CFR 430.02, or more frequently, to demonstrate compliance with applicable chloroform limitations and standards and record the range of certain process and operating conditions during this period.

With approval of this ICR, mills subject to Subpart B may choose to participate by certifying that fiber lines are in compliance with effluent limitations and standards in lieu of minimum monitoring for chloroform required by 40 CFR 430.02. These mills must submit a report summarizing the results of the initial compliance demonstration period and subsequently submit periodic certification reports confirming that the participating fiber line continues to operate within the range of process and operating conditions documented during the initial compliance demonstration period.

EPA expects that the initial compliance demonstration and periodic certification reports will be used by NPDES and pretreatment control authorities to determine compliance with the Cluster Rules effluent limitations and standards for chloroform, establish permit and pretreatment control agreement conditions to include the certification option, and revise permit requirements based on data from certification reports and additional required information from the facility.

The additional reporting requirements as part of the certification option are necessary to confirm compliance with applicable chloroform limitations and standards in lieu of minimum monitoring required by 40 CFR 430.02. The burden associated with these additional reporting requirements is expected to be offset by a substantial savings in burden and costs that would otherwise be incurred by the minimum monitoring requirements.

In allowing Subpart B facilities to certify in lieu of minimum monitoring required by 40 CFR 430.02, EPA has struck a balance between: (1) the need to ensure that sufficient data are consistently available to permitting and pretreatment control authorities to provide an adequate basis to verify compliance with the effluent limitations and standards, and to participating mills to ensure the range of process and operating parameters documented during the initial compliance monitoring period captures variability of normal operations expected during the period of subsequent certification, and (2) the availability of a less burdensome option than the minimum monitoring requirements to provide sufficient data to permitting and pretreatment control authorities. The certification option also ensures sufficient process and operating data are available to the mill so that the mill operating personnel and management may quickly become aware of and react to releases that may be harmful to the environment.

EPA anticipates that some mills may elect to submit information and data required as part of the initial compliance demonstration with a claim of confidential business information (CBI). All data claimed as CBI will be maintained pursuant to 40 CFR part 2 when EPA is the permitting authority, and pursuant to regulations governing such information when States are the permitting authorities.

As required by OMB, an agency may not conduct or sponsor, and a person is not required to respond to, a collection of information unless it displays a currently valid OMB control number. The OMB control numbers for EPA's regulations are listed in 40 CFR part 9 and 48 CFR chapter 15.

EPA solicits comments on: (i) whether the proposed collection of information is necessary for the proper performance of the functions of the Agency, including whether the information will have practical utility;

(ii) The accuracy of the Agency's estimate of the burden of the proposed collection of information, including the validity of the methodology and assumptions used;

(iii) The quality, utility, and clarity of the information to be collected; and

(iv) The burden of the collection of information on those who are to respond, including through the use of appropriate automated electronic, mechanical, or other technological collection techniques or other forms of information technology (e.g., permitting electronic submission of responses).

Burden Statement: Burden means the total time, effort, or financial resources expended by persons to generate, maintain, retain, or disclose or provide information to or for a Federal agency. This includes time needed to: review instructions; develop, acquire, install, and utilize technology and systems for the purposes of collecting, validating, and verifying information, processing and maintaining information and disclosing and providing information; adjust the existing ways to comply with previously applicable instructions and requirements; train personnel to be able to respond to the collection of information; search data sources; complete and review the collection of information and transmit or otherwise disclose the information. The following paragraphs summarize the burden estimate imposed on respondents, including mills and States, and EPA. Details of the burden and cost estimate are included in the supporting statement of this ICR.

(a) Industry Burden Estimates

The following discussion describes the total annual burden and costs incurred for facilities that choose to certify their fiber lines in lieu of chloroform minimum monitoring and the associated overall reduction in annual burden and costs for reduced minimum monitoring requirements. EPA estimates 80 of the 84 (127 of the 123 fiber lines) subpart B mills will choose to certify. The reporting burden a report summarizing the results of the initial compliance demonstration period and subsequent submission of periodic certification reports. For the purposes of this ICR, EPA assumed that periodic certification reports are submitted concurrently with monthly Discharge Monitoring Reports (DMRs) to the NPDES permit authorities and Periodic Compliance Reports (PCRs) to the pretreatment control authority in order to express the full potential reporting burden and costs associated with the voluntary certification option. Facilities that choose to certify their fiber lines in lieu of minimum monitoring for chloroform will experience an overall reduction in burden and costs associated with reduced sampling, reporting, and analytical burden and costs required by minimum monitoring in 40 CFR 430.02. This reduction in cost is estimated to be $55,140 annually per mill. The total burden reduction associated with the certification option is summarized below:

Table 1.—Total Burden and Cost Reduction Resulting from Certification in Lieu of Chloroform Minimum Monitoring
Activity | Total annual burden (hours) | Total annual cost (2000)
Annual burden for reporting for certification in lieu of chloroform minimum monitoring | 480 | $27,320
Annual burden reduction from sampling for minimum monitoring required by 40 CFR 430.02 | (19,812) | (572,760)
Annual burden reduction from reporting for minimum monitoring required by 40 CFR 430.02 | (160) | (9,110)
Annual analytical cost reduction for minimum monitoring by 40 CFR 430.02 |  | (3,856,740)
Total Annual Burden and Cost Reduction | (19,492) | ($4,411,290)

(b) State and Agency Burden Estimates

EPA does not estimate any addition or reduction of recurring burden for NPDES and pretreatment control authorities or for the Agency for facilities wishing to certify their fiber lines in lieu of chloroform minimum monitoring.

Dated: March 2, 2001.
Geoffrey H. Grubbs,
Director, Office of Science and Technology.

[FR Doc. 01-6681 Filed 3-16-01; 8:45 am]

BILLING CODE 6560-50-P